SECURITIES AND EXCHANGE COMMISSION

[File No. 500-1]

AIMS Worldwide, Inc., Apollo Capital Group, Inc., CommunitySouth Financial Corp., Last Mile Logistics Group, Inc., Made in America Entertainment, Inc., and Millenia Hope, Inc.; Order of Suspension of Trading

August 14, 2013.

It appears to the Securities and Exchange Commission that there is a lack of current and accurate information concerning the securities of AIMS Worldwide, Inc. because it has not filed any periodic reports since the period ended June 30, 2010.

It appears to the Securities and Exchange Commission that there is a lack of current and accurate information concerning the securities of Apollo Capital Group, Inc. because it has not filed any periodic reports since the period ended June 30, 2010.

It appears to the Securities and Exchange Commission that there is a lack of current and accurate information concerning the securities of CommunitySouth Financial Corp. because it has not filed any periodic reports since the period ended September 30, 2010.

It appears to the Securities and Exchange Commission that there is a lack of current and accurate information concerning the securities of Last Mile Logistics Group, Inc. because it has not filed any periodic reports since the period ended March 31, 2008.

It appears to the Securities and Exchange Commission that there is a lack of current and accurate information concerning the securities of Made in America Entertainment, Inc. because it has not filed any periodic reports since the period ended June 30, 2008.

It appears to the Securities and Exchange Commission that there is a lack of current and accurate information concerning the securities of Millenia Hope, Inc. because it has not filed any periodic reports since the period ended February 29, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 14, 2013, through 11:59 p.m. EDT on August 27, 2013.

By the Commission.
Jill M. Peterson,
Assistant Secretary.

[FR Doc. 2013-20103 Filed 8-14-13; 11:15 am]

BILLING CODE 8011-01-P